OFFICE OF PERSONNEL MANAGEMENT

Submission for Review: We Need Important Information About Your Eligibility for Social Security Disability Benefits, RI 98-7

AGENCY: U.S. Office of Personnel Management.

ACTION: Notice.

SUMMARY: The Retirement Services, Office of Personnel Management (OPM) offers the general public and other Federal agencies the opportunity to comment on an extension, without change, of a currently approved information collection request (ICR), We Need Important Information About Your Eligibility for Social Security Disability Benefits, RI 98-7.

DATES: Comments are due by April 3, 2017.

ADDRESSES: Interested persons are invited to submit written comments on the proposed information collection to Office of Information and Regulatory Affairs, Office of Management and Budget, 725 17th Street NW., Washington, DC 20503, Attention: Desk Officer for the Office of Personnel Management or sent by email to oira_submission@omb.eop.gov or faxed to (202) 395-6974.

FOR FURTHER INFORMATION CONTACT: A copy of this ICR with applicable supporting documentation, may be obtained by contacting the Office of Information and Regulatory Affairs, Office of Management and Budget, 725 17th Street NW., Washington, DC 20503, Attention: Desk Officer for the Office of Personnel Management or sent by email to oira_submission@omb.eop.gov or faxed to (202) 395-6974.

SUPPLEMENTARY INFORMATION: As required by the Paperwork Reduction Act of 1995, (Pub. L. 104-13, 44 U.S.C. chapter 35) as amended by the Clinger-Cohen Act (Pub. L. 104-106) OPM is soliciting comments for this collection. The information collection (OMB No. 3206-0263) was previously published in the Federal Register on September 21, 2016 at 81 FR 64957, allowing for a 60-day public comment period. No comments were received for this information collection. The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Form RI 98-7 is used by OPM to verify receipt of Social Security Administration (SSA) disability benefits, to lessen or avoid overpayment to Federal Employees Retirement System (FERS) disability retirees. It notifies the annuitant of the responsibility to notify OPM if SSA awards disability benefits and the subsequent overpayment that will occur with the receipt of both benefits.

Analysis

Agency: Retirement Operations, Retirement Services, Office of Personnel Management.

Title: We Need Important Information about Your Eligibility for Social Security Disability Benefits.

OMB Number: 3206-0216.

Frequency: On occasion.

Affected Public: Individuals or Households.

Number of Respondents: 4,300.

Estimated Time per Respondent: 5 minutes.

Total Burden Hours: 358.

U.S. Office of Personnel Management.
Kathleen McGettigan,
Acting Director.

[FR Doc. 2017-04144 Filed 3-2-17; 8:45 am]

BILLING CODE 6325-38-P